FEDERAL COMMUNICATIONS COMMISSION

47 CFR Part 73

[DA 04-272, MB Docket No. 03-224, RM-10801]

Digital Television Broadcast Service and Television Broadcast Service; Knoxville, TN

AGENCY: Federal Communications Commission.

ACTION: Final rule.

SUMMARY: The Commission, at the request of Knoxville Channel 25, LLC, substitutes DTV channel 7 for channel 26- at Knoxville, Tennessee. See 68 FR 62046, October 31, 2003. DTV channel 7 can be allotted to Knoxville in compliance with the Sections 73.623(c)(2) and 73.625(a) of the Commission's Rules at reference coordinates 36-00-36 N. and 83-55-57 W. with a power of 55, HAAT of 367 meters and with a DTV service population of 1048 thousand. With this action, this proceeding is terminated.

DATES: Effective March 29, 2004.

FOR FURTHER INFORMATION CONTACT: Pam Blumenthal, Media Bureau, (202) 418-1600.

SUPPLEMENTARY INFORMATION: This is a synopsis of the Commission's Report and Order, MB Docket No.03-224, adopted February 5, 2004, and released February 12, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Tennessee, is amended by removing TV channel 26-at Knoxville.

§ 73.622 [Amended]

3. Section 73.622(b), the Table of Digital Television Allotments under Tennessee, is amended by adding DTV channel 7 at Knoxville.

Federal Communications Commission.
Barbara A. Kreisman,
Chief, Video Division, Media Bureau.

[FR Doc. 04-3965 Filed 2-23-04; 8:45 am]

BILLING CODE 6712-01-P